DEPARTMENT OF ENERGY

Draft Environmental Impact Statement (EIS) for the Proposed Consolidation of Nuclear Operations Related to Production of Radioisotope Power Systems: Details of Public Hearing Locations

AGENCY: Department of Energy.

ACTION: Notice of public hearing locations.

SUMMARY: The Notice of Availability of the Draft EIS for the Proposed Consolidation of Nuclear Operations Related to Production of Radioisotope Power Systems was published by the Environmental Protection Agency in the Federal Register on July 1, 2005. In addition to the notifications through local media, the Department is providing details through this Federal Register notice of the locations and times of public hearings to be held to receive public comments on the subject Draft EIS.

DATES: The 60-day public comment period began with the publication of the Notice of Availability published by the Environmental Protection Agency in the Federal Register dated July 1, 2005 (70 FR 38131), and concludes on August 29, 2005. The Department invites the general public, Native American Tribes, state and local governments, other Federal agencies, Departmental stakeholders, and other interested parties to comment on the Draft EIS. To ensure that the comments are considered in preparation of the Final EIS, the comments should be transmitted or postmarked by August 29, 2005. Late comments will be considered to the extent practicable.

The Department will conduct eight public hearings in Oak Ridge, Tennessee; Los Alamos, New Mexico; Jackson, Wyoming; and Sun Valley/Ketchum, Idaho Falls, Fort Hall, Twin Falls, and Boise, Idaho. During the hearings, the Department will provide information on the Draft EIS and receive oral and written comments that will be considered in preparation of the Final EIS. All of the public meetings will begin at 7 p.m. The locations and dates for these public hearings are as follows:

Oak Ridge, Tennessee: Monday, July 18, 2005, at Double Tree Hotel, Salon C, 215 South Illinois Avenue, Oak Ridge, Tennessee 37830.

Los Alamos, New Mexico: Tuesday, July 19, 2005, at University of New Mexico, Los Alamos, Lecture Hall, Student Center, 4000 University Drive, Los Alamos, New Mexico 87544.

Sun Valley/Ketchum, Idaho: Wednesday, July 20, 2005, at Sun Valley Inn, Continental Room, Sun Valley Road, Sun Valley, Idaho 83353.

Jackson, Wyoming: Thursday, July 21, 2005, at Snow King Convention Center, 400 E. Snow King Avenue, Jackson Hole, Wyoming 83001.

Idaho Falls, Idaho: Monday, July 25, 2005, at Shilo Inn, 780 Lindsay Boulevard, Idaho Falls, Idaho 83402.

Fort Hall, Idaho: Tuesday July 26, 2005, at Tribal Business Center, Tribal Council Chambers, Pima Drive (I-15, Exit 80), Fort Hall Town Site, Fort Hall, Idaho 83203.

Twin Falls, Idaho: Wednesday, July 27, 2005, at College of Southern Idaho, Taylor Building, Room 276, 315 Falls Avenue, Twin Falls, Idaho 83303.

Boise, Idaho: Thursday, July 28, 2005, at Red Lion Hotel, Boise Downtowner, Selway Meeting Room, 1800 Fairview, Boise, Idaho 83702.

ADDRESSES: Comments on the Draft EIS requests for special arrangements that would enable participation at the hearings (e.g., an interpreter for the hearing impaired) and requests to be placed on the Final EIS distribution list may be directed to: Timothy A. Frazier, Document Manager, NE-50/Germantown Building, Office of Space and Defense Power Systems, Office of Nuclear Energy, Science and Technology, U.S. Department of Energy, 1000 Independence Avenue, SW., Washington, DC 20585-1290 or submitted via e-mail to ConsolidationEIS@nuclear.energy.gov. You may also leave a message at (800) 919-3716 or send a fax to (800) 919-3765. Comments may also be submitted to the Department via e-mail at ConsolidationEIS.doe.gov.

SUPPLEMENTARY INFORMATION: The Department has prepared the subject Draft EIS pursuant to the National Environmental Policy Act of 1969. The Notice of Intent to prepare the EIS was published in the Federal Register on November 16, 2004. Seven public scoping meetings were held at Oak Ridge, Tennessee; Los Alamos, New Mexico; Jackson, Wyoming; Idaho Falls, Fort Hall, and Twin Falls, Idaho; and Washington, DC. Comments received on the scope of the EIS were considered in preparation of the Draft EIS. The Notice of Availability of the Draft was published by the U.S. Environmental Protection Agency in the Federal Register on July 1, 2005. This notice announces the details of the dates and locations of the public hearings and invites comments on the Draft EIS that will be considered in preparation of the Final EIS scheduled for publication in November 2005. Additionally, announcements in the local media have been and are being made to enhance and facilitate public participation.

Issued in Washington, DC, on July 8, 2005.
R. Shane Johnson,
Acting Director, Office of Nuclear Energy, Science and Technology.

[FR Doc. 05-13859 Filed 7-13-05; 8:45 am]

BILLING CODE 6450-01-P